U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on June 22, 2017 on “U.S. Access to China's Consumer Market: E-Commerce, Financial Services, and Logistics”.

DATES: The meeting is scheduled for Thursday, June 22, 2017, from 10:00 a.m. to 2:20 p.m.

ADDRESSES: Russell Senate Office Building, Room 188, Washington, DC. A detailed agenda for the hearing will be posted on the Commission's Web site at www.uscc.gov. Also, please check the Commission's Web site for possible changes to the hearing schedule. Reservations are not required to attend the hearing.

FOR FURTHER INFORMATION CONTACT: Any member of the public seeking further information concerning the hearing should contact Leslie Tisdale, 444 North Capitol Street NW., Suite 602, Washington, DC 20001; telephone: 202-624-1496, or via email at ltisdale@uscc.gov. Reservations are not required to attend the hearing.

SUPPLEMENTARY INFORMATION:

Background: This is the seventh public hearing the Commission will hold during its 2017 report cycle. This hearing will examine recent developments in China's e-commerce, logistics, and financial services sectors and identify opportunities and challenges for U.S. companies. The hearing will be co-chaired by Senator Byron Dorgan and Commissioner Glenn Hubbard. Any interested party may file a written statement by June 22, 2017, by mailing to the contact information above. A portion of each panel will include a question and answer period between the Commissioners and the witnesses.

Authority: Congress created the U.S.-China Economic and Security Review Commission in 2000 in the National Defense Authorization Act (Public Law 106-398), as amended by Division P of the Consolidated Appropriations Resolution, 2003 (Pub. L. 108-7), as amended by Public Law 109-108 (November 22, 2005), as amended by Public Law 113-291 (December 19, 2014).

Dated: June 6, 2017.
Michael Danis,
Executive Director, U.S.-China Economic and Security Review Commission.

[FR Doc. 2017-12038 Filed 6-9-17; 8:45 am]

BILLING CODE 1137-00-P